DEPARTMENT OF TRANSPORTATION

Federal Aviation Administration

14 CFR Part 39

[Docket No. FAA-2005-20349; Directorate Identifier 2003-NM-108-AD]

RIN 2120-AA64

Airworthiness Directives; McDonnell Douglas Model MD-11 and -11F Airplanes; Model DC-10-10 and DC-10-10F Airplanes; Model DC-10-15 Airplanes; Model DC-10-30 and DC-10-30F (KC-10A and KDC-10) Airplanes; Model DC-10-40 and DC-10-40F Airplanes; and Model MD-10-10F and MD-10-30F Airplanes

AGENCY: Federal Aviation Administration (FAA), Department of Transportation (DOT).

ACTION: Notice of proposed rulemaking (NPRM).

SUMMARY: The FAA proposes to supersede an existing airworthiness directive (AD) that applies to certain McDonnell Douglas Model MD-11 and -11F airplanes. The existing AD currently requires a one-time inspection to detect loose preload-indicating (PLI) washers or cracked or corroded nuts of the lower bolts of the inboard flap outboard hinge, and replacement with new parts if necessary. This proposed AD would require replacement with new, improved parts of the inboard flap, outboard hinge, forward attach bracket, and lower attach bolt assemblies. This proposed AD also would add certain other McDonnell Douglas transport category airplanes and require an inspection for certain parts, and related investigative and corrective actions if necessary. This proposed AD is prompted by a report indicating that the left-hand inboard flap outboard hinge pulled away from the wing structure. We are proposing this AD to prevent loose PLI washers or cracked or corroded nuts of the lower bolts of the inboard flap outboard hinge, which could result in separation of the inboard flap outboard hinge from the wing structure and consequent reduced controllability of the airplane.

DATES: We must receive comments on this proposed AD by April 1, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or at the Docket Management Facility, U.S. Department of Transportation, 400 Seventh Street SW., room PL-401, on the plaza level of the Nassif Building, Washington, DC.

FOR FURTHER INFORMATION CONTACT: Ronald Atmur, Aerospace Engineer, Airframe Branch, ANM-120L, FAA, Los Angeles Aircraft Certification Office, 3960 Paramount Boulevard, Lakewood, California 90712-4137; telephone (562) 627-5224; fax (562) 627-5210.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2005-99999.” The Transport Airplane Directorate identifier is in the form “Directorate Identifier 2005-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2005-20349; Directorate Identifier 2003-NM-108-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On July 10, 2002, we issued AD 2002-14-03, amendment 39-12803 (67 FR 47254, July 18, 2002), for certain McDonnell Douglas Model MD-11 and MD-11F airplanes. That AD requires a one-time inspection to detect loose preload-indicating (PLI) washers or cracked or corroded nuts of the lower bolts of the inboard flap outboard hinge, and replacement with new parts if necessary. That AD was prompted by a report indicating that the left-hand inboard flap outboard hinge pulled away from the wing structure where it attaches with two upper and two lower bolts. We issued that AD to detect and correct loose PLI washers or cracked or corroded nuts of the lower bolts of the inboard flap outboard hinge, which could result in separation of the inboard flap outboard hinge from the wing structure and consequent reduced controllability of the airplane.

Actions Since Existing AD Was Issued

Since the existing AD was issued, we have determined that the upper and lower attach bolt assemblies specified on Model MD-11 and MD-11F airplanes affected by AD 2002-14-03 are identical to the attach bolt assemblies on certain Model DC-10-10 and DC-10-10F airplanes; Model DC-10-15 airplanes; Model DC-10-30 and DC-10-30F (KC-10A and KDC-10) airplanes; Model DC-10-40 and DC-10-40F airplanes; and Model MD-10-10F and MD-10-30F airplanes. Therefore, all these models may be subject to the same unsafe condition.

Additionally, in the preamble to AD 2002-14-03, we indicated that the actions required by that AD were considered “interim action” and that further rulemaking action was being considered. We now have determined that further rulemaking action is indeed necessary, and this proposed AD follows from that determination.

Relevant Service Information

We have reviewed Boeing Alert Service Bulletin (ASB) MD11-57A067, Revision 01, including Appendices A and B, dated April 8, 2003 (for Model MD-11 and -11F airplanes). The ASB describes various procedures for different groups of airplanes, based on the composition of the nuts on the lower bolts of the inboard flap outboard hinge. (Boeing ASB MD11-57A067, including Appendices A and B, dated July 10, 2002, is the appropriate source of service information for AD 2002-14-03.)

Group 1 airplanes specified in Revision 01 have alloy steel nuts, and Group 2 airplanes specified in Revision 01 have Inconel nuts. The procedures for these airplane groups include removing sealant from the head and nut sides of both bolt assemblies, using a wiggle tool to detect looseness of the preload-indicating (PLI) washers, and visually inspecting the nut for corrosion and cracking. Based on the results of the inspection, related investigative and corrective actions include doing a magnetic particle inspection of the bolt to detect cracking and corrosion, replacing discrepant parts with new Inconel and/or alloy steel bolts and nuts and new PLI washers, and applying sealant.

We also have reviewed Boeing Service Bulletin MD-1157A068, Revision 1, dated April 8, 2003 (for Model MD-11 and MD-11F airplanes). That service bulletin describes procedures for replacing the bolts and nuts of the inboard flap, outboard hinge, forward attach bracket, and the lower attach bolt assemblies with Inconel bolts and nuts.

Additionally, we reviewed Boeing Service Bulletin DC10-57A149, Revision 1, dated April 8, 2003 (for Model DC-10-10 and DC-10-10F airplanes; Model DC-10-15 airplanes; Model DC-10-30 and DC-10-30F (KC-10A and KDC-10) airplanes; Model DC-10-40 and DC-10-40F airplanes; and Model MD-10-10F and MD-10-30F airplanes). That service bulletin describes procedures for inspecting the maintenance records to determine if new Inconel bolts and nuts have been installed in accordance with Boeing Service Bulletin DC10-57-116. For certain airplanes, the service bulletin describes encapsulating both nut sides of the bolt assemblies with sealant, and inspecting for cracking of the nuts of the upper and lower attach bolt assemblies. The service bulletin also describes procedures for replacing the PLI washers with new washers, and for replacing both upper and lower attach bolt assemblies with Inconel nuts and bolts.

Accomplishment of the actions specified in the above service bulletins is intended to adequately address the identified unsafe condition.

FAA's Determination and Requirements of the Proposed AD

We have evaluated all pertinent information and identified an unsafe condition that is likely to exist or develop on other products of this same type design. Therefore, we are proposing this AD, which would supersede AD 2002-14-03. For certain airplanes, this proposed AD would continue to require the one-time inspection to detect loose PLI washers or cracked or corroded nuts of the lower bolts of the inboard flap outboard hinge, and replacement with new parts if necessary. This proposed AD would also require eventual replacement of the steel bolts and nuts with Inconel material. This proposed AD would require you to use the applicable service information described previously to perform these actions except as discussed under “Differences Between the Proposed AD and the Relevant Service Information.”

Differences Between the Proposed AD and the Relevant Service Information

Boeing Alert Service Bulletin MD11-57A067, Revision 01, dated April 8, 2003, specifies that operators may test for looseness of the PLI washers by use of a wiggle tool, “or equivalent.” However, this proposed AD would require that any alternative to the wiggle-tool test be accomplished in accordance with a method approved by the FAA. Use of an equivalent tool or test procedure is allowed only if approved as an alternative method of compliance in accordance with the requirements of paragraph (e) of this proposed AD.

Although Boeing Service Bulletin DC10-57A149, Revision 1, dated April 8, 2003, specifies inspection of the maintenance records to determine if new Inconel bolts and nuts have been installed in accordance with Boeing Service Bulletin DC10-57-116, this proposed AD specifies inspection of the maintenance records to determine if new Inconel bolts and nuts have been installed in accordance with Boeing Service Bulletin DC10-57-116, Revision 01, dated November 25, 1993; Revision 02, dated December 22, 1998; or Revision 03, dated May 12, 1999.

Further, although Boeing Alert Service Bulletin MD11-57A067 specifies that the manufacturer may be contacted for disposition of “additional examination recommendations,” this proposed AD would require the actions to be accomplished in accordance with a method approved by the FAA.

Although Boeing Service Bulletin DC10-57A149 specifies sending a report and discrepant parts to the manufacturer, this proposed AD would not require those actions.

Change to Existing AD

This proposed AD would retain certain requirements of AD 2002-14-03. Since AD 2002-14-03 was issued, the AD format has been revised, and certain paragraphs have been rearranged. As a result, the corresponding paragraph identifiers have changed in this proposed AD, as listed in the following table:

Revised Paragraph Identifiers
Requirement in AD 2002-14-03 | Corresponding requirement in this proposed AD
Paragraph (a) | Paragraph (f).
Paragraph (b) | Paragraph (g).
Paragraph (c) | Paragraph (h).

Costs of Compliance

There are about 593 airplanes of the affected design in the worldwide fleet. The following table provides the estimated costs for U.S. operators to comply with this proposed AD. The average labor rate is considered to be $65 per hour.

Estimated Costs
Action | Work hours | Parts | Cost per airplane | Number of U.S.-registered airplanes | Fleet cost
Inspection of Model MD-11 and -11F airplanes (required by AD 2002-14-03) | 10 to 12 |  | $650 to $780 | 66 | Between $42,900 and $51,480.
Replacing parts for Model MD-11 and -11F airplanes (new proposed action) | 13 | $2,041 | $2,886 | 66 | $190,476.
Inspection of Model DC-10-10, and DC-10-10F airplanes; Model DC-10-15 airplanes; Model DC-10-30 and DC-10-30F (KC-10A and KDC-10) airplanes; Model DC-10-40 and DC-10-40F airplanes; Model MD-10-10F and MD-10-30F airplanes | 1 | 0 | $65 | 297 | $19,305.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12803 (67 FR 47254, July 18, 2002) and adding the following new airworthiness directive (AD):

McDonnell Douglas: Docket No. FAA-2005-20349; Directorate Identifier 2003-NM-108-AD.

Comments Due Date

(a) The Federal Aviation Administration must receive comments on this airworthiness directive (AD) action by April 1, 2005.

Affected ADs

(b) This AD supersedes AD 2002-14-03, amendment 39-12803.

Applicability

(c) This AD applies to the airplanes listed in Table 1 of this AD, certificated in any category.

Table 1.—Applicability
McDonnell Douglas Model | As listed in Boeing
(1) DC-10-10, and DC-10-10F airplanes; DC-10-15 airplanes; DC-10-30 and DC-10-30F (KC-10A and KDC-10) airplanes; DC-10-40 and DC-10-40F airplanes; MD-10-10F and MD-10-30F airplanes | Service Bulletin DC10-57A149, Revision 1, dated April 8, 2003.
(2) MD-11 and MD-11F airplanes | Alert Service Bulletin MD11-57A067, including Appendix A and B; Revision 01, dated April 8, 2003; and Service Bulletin MD11-57A068, Revision 1, dated April 8, 2003.

Unsafe Condition

(d) This AD is prompted by a report indicating that the left-hand inboard flap outboard hinge pulled away from the wing structure. We are issuing this AD to prevent loose preload-indicating (PLI) washers or cracked or corroded nuts of the lower bolts of the inboard flap outboard hinge, which could result in separation of the inboard flap outboard hinge from the wing structure and consequent reduced controllability of the airplane.

Compliance

(e) You are responsible for having the actions required by this AD performed within the compliance times specified, unless the actions have already been done.

Certain Requirements of AD 2002-14-03:

Inspection

(f) For airplanes listed in Boeing Alert Service Bulletin MD11-57A067, dated July 10, 2002: At the applicable time specified in paragraph (f)(1) or (f)(2) of this AD, do a detailed inspection (including removing sealant from the head and nut sides of both bolt assemblies) of the nuts and PLI washers of the lower bolts of the inboard flap outboard hinge to detect discrepancies (including loose PLI washers or cracked or corroded nuts, as applicable), in accordance with Boeing Alert Service Bulletin MD11-57A067, including Appendices A and B, dated July 10, 2002, except as required by paragraphs (g) and (h) of this AD. Before further flight thereafter, do applicable related investigative and corrective actions (including performing a magnetic particle inspection of the bolt to detect cracking and corrosion, replacing discrepant parts with new Inconel and/or alloy steel bolts and nuts and new PLI washers, and applying sealant, as applicable); and, within 600 flight cycles, replace discrepant bolts, nuts, and washers with new parts, as applicable; in accordance with the alert service bulletin.

(1) For Group 1 airplanes: Inspect within 30 days after August 2, 2002 (the effective date of AD 2002-14-03, amendment 39-12803).

(2) For Group 2 airplanes: Inspect within 60 days after August 2, 2002.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Exceptions to Paragraph (f) Requirements

(g) Where Boeing Alert Service Bulletin MD11-57A067, including Appendices A and B, dated July 10, 2002, specifies that testing for looseness of the PLI washers may be accomplished by the use of a wiggle tool, “or equivalent”: Either the wiggle tool must be used, or the test must be accomplished in accordance with a method approved by the Manager, Los Angeles Aircraft Certification Office (ACO), FAA.

(h) Where Boeing Alert Service Bulletin MD11-57A067, including Appendices A and B, dated July 10, 2002, specifies to contact Boeing for “additional examination recommendations”: Before further flight, these actions, if accomplished, must be performed in accordance with a method approved by the Manager, Los Angeles ACO. For such a method to be approved by the Manager, Los Angeles ACO, as required by this paragraph, the Manager's approval letter must specifically refer to this AD.

New Requirements of This AD:

Replacement of Steel Bolts and Nuts

(i) For Model MD-11 and “MD-11F airplanes specified in Condition 2 of the Accomplishment Instructions of Boeing Alert Service Bulletin MD11-57A068, dated Revision 1, dated April 8, 2003: Within 18 months after the effective date of this AD, replace the bolts and nuts of the inboard flap, outboard hinge, forward attach bracket, and lower attach bolt assemblies with bolts and nuts made from Inconel material; and install new PLI washers, by accomplishing all the actions in the Accomplishment Instructions of Boeing Service Bulletin MD11-57068, dated January 7, 2003, or Revision 1, dated April 8, 2003.

(j) For Model MD-11 and MD-11F airplanes specified in Condition 3 of the Accomplishment Instructions of Boeing Alert Service Bulletin MD11-57A068, Revision 1, dated April 8, 2003: Within 36 months after the effective date of this AD, replace the bolts and nuts of the inboard flap, outboard hinge, forward attach bracket, and lower attach bolt assemblies with bolts and nuts made from Inconel material and install new PLI washers, in accordance with Boeing Service Bulletin MD11-57068, dated January 7, 2003 or Revision 1, dated April 8, 2003.

(k) For Model MD-11 and MD-11F airplanes specified in Condition 4 of the Accomplishment Instructions of Boeing Alert Service Bulletin MD11-57A068, Revision 1, dated April 8, 2003: Within 60 months after the effective date of this AD, replace the bolts and nuts of the inboard flap, outboard hinge, forward attach bracket, and lower attach bolt assemblies with bolts and nuts made from Inconel material and new PLI washers, in accordance with Boeing Service Bulletin MD11-57068, dated January 7, 2003, or Revision 1, dated April 8, 2003.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Inspection of Certain Parts or Maintenance Records

(l) For Model DC-10-10, and DC-10-10F airplanes; Model DC-10-15 airplanes; Model DC-10-30 and DC-10-30F (KC-10A and KDC-10) airplanes; Model DC-10-40 and DC-10-40F airplanes; and Model MD-10-10F and MD-10-30F airplanes: Within 6 months after the effective date of this AD, perform a general visual inspection of the inboard flap, outboard hinge, forward attach bracket, and upper and lower attach bolt assemblies to determine if those parts have been replaced with Inconel bolt assemblies in accordance with Boeing Service Bulletin DC10-57-116, Revision 01, dated November 25, 1993; Revision 02, dated December 22, 1998; or Revision 03, dated May 12, 1999. Instead of performing a general visual inspection of those parts, a review of airplane maintenance records is acceptable if replacement of the Inconnel bolt assemblies in accordance with Boeing Service Bulletin DC10-57-116, Revision 01, dated November 25, 1993; Revision 02, dated December 22, 1998; or Revision 03, dated May 12, 1999, can be positively determined from that review.

(1) If it can positively be determined that the Inconcel bolt assemblies are installed, no further action is required by this paragraph.

(2) If the Inconel bolt assemblies are not installed, before further flight, do a detailed inspection for cracking of the external area of each nut of the inboard flap, outboard hinge, forward attach bracket, lower attach bolt assembly, in accordance with Boeing Service Bulletin DC10-57A149, Revision 1, dated April 8, 2003.

(i) If no cracking is detected, before further flight, encapsulate both nut sides of the bolt assembly installations with sealant; and, within 24 months after the effective date of this AD, replace both upper and lower attach bolt assemblies with bolts and nuts made from Inconel; in accordance with the service bulletin.

(ii) If any cracking is detected, do the actions specified in either paragraph (l)(2)(ii)(A) or (l)(2)(ii)(B) of this AD, at the times specified, in accordance with the service bulletin.

(A) Prior to further flight, replace both upper and lower attach bolt assemblies with bolts and nuts made from Inconel and new washers;

(B) Prior to further flight, replace both lower attach bolt assemblies with bolts and nuts made from Inconel and new washers, and within 24 months after the effective date of this AD, replace both upper attach bolt assemblies with bolts and nuts made from Inconel and new washers.

No Reporting Requirement

(m) Although certain service information referenced in this AD specifies to submit a report and discrepant parts to the manufacturer, this AD does not include those requirements.

Alternative Methods of Compliance (AMOCs)

(n)(1) The Manager, Los Angeles Aircraft Certification Office (ACO), FAA, has the authority to approve AMOCs for this AD, if requested in accordance with the procedures found in 14 CFR 39.19.

(2) An AMOC that provides an acceptable level of safety may be used for any repair required by this AD, if it is approved by an Authorized Representative for the Boeing Delegation Option Authorization Organization who has been authorized by the Manager, Los Angeles ACO, to make those findings. For a repair method to be approved, the approval must specifically refer to this AD.

Issued in Renton, Washington, on February 3, 2005.
Ali Bahrami,
Manager, Transport Airplane Directorate, Aircraft Certification Service.

[FR Doc. 05-2837 Filed 2-14-05; 8:45 am]

BILLING CODE 4910-13-P